ENVIRONMENTAL PROTECTION AGENCY

40 CFR Part 98

[EPA-HQ-OAR-2009-0927; FRL-9920-59-OAR]

RIN 2060-AR78

Greenhouse Gas Reporting Program: Addition of Global Warming Potentials to the General Provisions and Amendments and Confidentiality Determinations for Fluorinated Gas Production; Correction

AGENCY: Environmental Protection Agency.

ACTION: Final rule; correction.

SUMMARY: The Environmental Protection Agency (EPA) is correcting a final rule that appeared in the Federal Register on December 11, 2014 (79 FR 73750). The final rule amends the general provisions of the Greenhouse Gas Reporting Rule to establish chemical-specific and default global warming potentials (GWPs) for a number of fluorinated greenhouse gases (F-GHGs) and fluorinated heat transfer fluids (F-HTFs). The rule also includes conforming changes to the provisions for the Electronics Manufacturing and Fluorinated Gas Production source categories.

DATES: Effective January 1, 2015.

FOR FURTHER INFORMATION CONTACT: Carole Cook, Climate Change Division, Office of Atmospheric Programs (MC-6207A), Environmental Protection Agency, 1200 Pennsylvania Ave. NW., Washington, DC 20460; telephone number: (202) 343-9263; fax number: (202) 343-2342; email address: GHGReporting@epa.gov. For technical information, please go to the Greenhouse Gas Reporting Rule Program Web site at http://www.epa.gov/ghgreporting/index.html. To submit a question, select Rule Help Center, followed by Contact Us.

Worldwide Web (WWW). In addition to being available in the docket, an electronic copy of this correction will also be available through the WWW. Following signature, a copy of this action will be posted on the EPA's Greenhouse Gas Reporting Program rule Web site at http://www.epa.gov/ghgreporting/index.html.

SUPPLEMENTARY INFORMATION: In FR Doc. 2014-28444 appearing on page 73750 in the Federal Register of Thursday, December 11, 2014, the following corrections are made:

§ 98.3 [Corrected]

1. On page 73777, in the first column, in Subpart A—General Provisions, § 98.3 What are the general monitoring, reporting, recordkeeping, and verification requirements of this part?, amendatory instruction 3.d “Revising paragraphs (l) introductory text, (1)(1), and (1)(2) introductory text;” is corrected to read “Revising paragraph (l) introductory text, paragraph (1)(1) introductory text, and paragraph (1)(2) introductory text;”

§ 98.93 [Corrected]

2. On page 73785, in the first column, in Subpart I—Electronics Manufacturing, § 98.93 Calculating GHG emissions, amendatory instruction 8 “Section 98.93 is amended by revising paragraph (i)(2) to read as follows:” is corrected to read “Section 98.93 is amended by revising paragraph (i)(2) introductory text to read as follows:”

Dated: December 17, 2014.
Janet G. McCabe,
Acting Assistant Administrator, Office of Air and Radiation.

[FR Doc. 2014-30178 Filed 12-23-14; 8:45 am]

BILLING CODE 6560-50-P